DEPARTMENT OF HOMELAND SECURITY

Office of the Secretary

[Docket No. DHS-2005-0041]

Notice of Meeting of Homeland Security Science and Technology Advisory Committee

AGENCY: Office of Studies and Analysis, Science and Technology Directorate, DHS.

ACTION: Notice.

SUMMARY: The Homeland Security Science and Technology Advisory Committee (HSSTAC) will meet at 3811 N. Fairfax Drive, 6th Floor Conference Room, Arlington, Virginia 22209, in closed session on November 8, 2005, from 7:30 a.m. to 4 p.m. and from 4 p.m. to 5:30 p.m. in open session.

DATE: The meeting date is November 8, 2005.

ADDRESSES: If you wish to submit comments, you must do so by November 4, 2005. Comments must be identified by DHS-2005-0041 and may be submitted by one of the following methods:

• Federal Partner EDOCKET Web Site: http://www.regulations.gov. Follow instructions for submitting comments on the Web site.

• E-mail: HSSTAC@dhs.gov. Include docket number in the subject line of the message.

• Fax: (202) 254-6177.

• Mail: Ms. Brenda Leckey, Office of Studies and Analysis, Science and Technology Directorate, Department of Homeland Security, Washington, DC 20528.

Docket: For access to the docket to read background documents or comments received, go to http://www.regulations.gov.

FOR FURTHER INFORMATION CONTACT: Brenda Leckey, Office of Studies and Analysis, Science and Technology Directorate, Department of Homeland Security, Washington, DC 20528, HSSTAC@dhs.gov, 202-254-5041.

SUPPLEMENTARY INFORMATION: Notice of this meeting is given under the Federal Advisory Committee Act (FACA), Pub. L. 92-463, as amended (5 U.S.C. App. 1 et seq.). The HSSTAC will meet for purposes of: (1) Reviewing Homeland Security Institute (HSI) work on risk-based strategic planning; (2) receiving subcommittee reports; (3) providing the Under Secretary with preliminary HSSTAC recommendations; (4) addressing future subcommittee activities; and (5) discussing the Annual Report to Congress and the Under Secretary. Specifically, the HSSTAC will review the results of its subcommittees' activities undertaken since the last quarterly meeting in August 2005, and discuss any proposed subcommittee recommendations to be included in the annual report to Congress. The Committee will receive a briefing from the HSI on the status of the framework under development to link DHS and S&T investments to national homeland security strategies. And lastly, the Committee will discuss areas of interest for future subcommittee activities, and dispense subcommittee assignments for the annual report to Congress due in January.

Public Attendance: Due to meeting space restrictions, the maximum number of public attendees will be 25. Members of the public will be registered to attend the public session on a first-come, first-served basis per the procedures that follow. Any member of the public who wishes to attend the public session must provide his or her name, affiliation, social security number, and date of birth no later than 5 p.m. e.s.t., Friday, November 4, 2005. Please provide the required information to Craig Wilson via e-mail at HSSTAC@dhs.gov, or via phone at (202) 254-5723. Persons with disabilities who require special assistance should indicate so in their admittance request. Photo identification will be required for entry into the public session, and everyone in attendance must be present and seated by 4 p.m. on November 8, 2005.

In accordance with section 10(d) of the Federal Advisory Committee Act, Pub. L. 92-463, as amended (5 U.S.C. App. 1 et seq.) and pursuant to the authority delegated to him by the Secretary in DHS Management Directive 2300, the Under Secretary for Science and Technology has determined that this HSSTAC meeting will address matters the disclosure of which would be likely to frustrate significantly proposed agency actions. Accordingly, consistent with the provisions of 5 U.S.C. 552b(c)(9)(B), the meeting will be partially closed to the public.

Dated: October 19, 2005.
Charles E. McQueary,
Under Secretary for Science and Technology Science and Technology Directorate.

[FR Doc. 05-21308 Filed 10-21-05; 8:45 am]

BILLING CODE 4410-10-P